INTERNATIONAL TRADE COMMISSION

[Investigation No. 332-524]

Brazil: Competitive Factors Affecting U.S. and Brazilian Agricultural Sales in Selected Third Country Markets

AGENCY: United States International Trade Commission.

ACTION: Extension of date for transmitting report.

SUMMARY: Following the receipt of a letter on March 22, 2012, from the Committee on Finance of the United States Senate (Committee), the Commission has extended to April 26, 2012, the date for transmitting its report to the Committee in investigation No. 332-524, Brazil: Competitive Factors In Brazil Affecting U.S. and Brazilian Agricultural Sales in Selected Third Country Markets.

DATES:

March 22, 2012: Receipt of the letter from the Committee.

April 26, 2012: New date for transmitting the Commission's report to the Committee.

Backround

The Commission published notice of institution of the investigation in the Federal Register on May 24, 2011 (76 FR 30195). In its original notice of investigation, the Commission indicated that it would transmit its report to the Committee on March 26, 2012. The notice is also available on the Commission Web site at http://www.usitc.gov. All other information about the investigation, including a description of the subject matter to be addressed, contact information, and Commission addresses, remains the same as in the original notice. The public record for this investigation may be viewed on the Commission's electronic docket (EDIS) at http://www.usitc.gov/secretary/edis.htm.

By order of the Commission.
Issued: March 23, 2012.
James R. Holbein,
Secretary to the Commission.

[FR Doc. 2012-7472 Filed 3-27-12; 8:45 am]

BILLING CODE 7020-02-P